DEPARTMENT OF ENERGY

Federal Energy Regulatory Commission

[Docket No. EC03-57-000, et al.]

Calhoun Power Company I, LLC, et al.; Electric Rate and Corporate Filings

February 21, 2003.

The following filings have been made with the Commission. The filings are listed in ascending order within each docket classification.

1. Calhoun Power Company I, LLC and Alabama Power Company

[Docket No. EC03-57-000]

Take notice that on February 19, 2003, Calhoun Power Company I, LLC (Calhoun) and Alabama Power Company (Alabama Power) jointly filed with the Federal Energy Regulatory Commission an application for authorization under Section 203 of the Federal Power Act for a transfer from Calhoun to Alabama Power of limited facilities located within the Bynum Substation, which interconnects the Calhoun generating facility to the Alabama Power transmission system.

Comment Date: March 12, 2003.

2. Oildale Energy LLC

[Docket Nos. EL03-48-000 and QF84-518-005]

Take notice that on February 7, 2003, Oildale Energy LLC, a limited liability company with its principal place of business at 2420 Camino Ramon, Suite 101, San Ramon, California 94583, filed with the Federal Energy Regulatory Commission (Commission) a petition for a limited waiver of the Commission's efficiency standard pursuant to § 292.205” of the Commission's regulations.

Comment Date: March 7, 2003.

3. Quest Energy, L.L.C.

[Docket No. ER00-1832-001]

Take notice that on February 14, 2003, WPS Resources Corporation (WPSR), on behalf of Quest Energy, L.L.C. (Quest), submitted a notice of change in status under Quest's market-based rate authority to reflect WPSR's indirect acquisition of Quest.

Comment Date: March 7, 2003.

4. Ameren Services Company; American Transmission Systems, Incorporated; Northern Indiana Public Service Company; National Grid USA; GridAmerica LLC; GridAmerica Holdings, Inc.; and Midwest Independent Transmission System Operator, Inc.

[Docket Nos. ER02-2233-003 and EC03-14-003]

Take notice that on February 18, 2003, the GridAmerica Participants (National Grid USA; GridAmerica LLC; GridAmerica Holdings, Inc., the managing member of GridAmerica; and the GridAmerica Companies which include Ameren Services Company, as agent for its electric utility affiliates Union Electric Company d/b/a AmerenUE and Central Illinois Public Service Company d/b/a AmerenCIPS; American Transmission Systems, Incorporated, a subsidiary of FirstEnergy Corp.; and Northern Indiana Public Service Company) and the Midwest Independent Transmission System Operator, Inc. submitted a Compliance Filing as required by Ordering Paragraph (B) of the Commission's December 19, 2002 Order, 101 FERC ¶ 61,320 (2002), in this proceeding.

The parties state that they are serving copies of the filing on the parties to the above-referenced proceeding, as well as affected state commissions, in accordance with the requirements of § 385.2010 of the Commission's Regulations, 18 CFR 385.2010 (2002), and are serving the filing by e-mail on the parties on the Midwest ISO's extensive email service list.

Comment Date: March 12, 2003.

5. El Paso Electric Company

[Docket No. ER03-23-002]

Take notice that on February 14, 2003, El Paso Electric Company tendered for filing with the Federal Energy Regulatory Commission (Commission) a Refund Report as directed by the Commission in El Paso Elec. Co., 101 FERC ¶ 61,276 at P 5 (2002).

Comment Date: March 7, 2003.

6. ConocoPhillips Company

[Docket No. ER03-428-002]

Take notice that on February 14, 2003, ConocoPhillips Company tendered for filing with the Federal Energy Regulatory Commission (Commission) an Amended Code of Conduct to be attached to its Amended Notice of Succession notifying the Commission that, effective December 31, 2002, Conoco Inc. changed its name to ConocoPhillips Company.

Comment Date: March 7, 2003.

7. American Transmission Company LLC

[Docket No. ER03-537-000]

Take notice that on February 14, 2003, American Transmission Company LLC (ATCLLC) tendered for filing a Generation-Transmission Interconnection Agreement between ATCLLC and Wisconsin River Power Company. ATCLLC requests an effective date of January 15, 2003.

Comment Date: March 7, 2003.

8. ONEOK Energy Marketing and Trading Company, L.P.

[Docket No. ER03-538-000]

Take notice that on February 14, 2003, ONEOK Energy Marketing and Trading Company, L.P. filed with the Federal Energy Regulatory Commission (Commission), pursuant to section 205 of the Federal Power Act, a Revised Rate Schedule to allow for sales, assignments, or transfers of energy or capacity. This Revised Rate Schedule replaces that which is currently on file with the Commission.

Comment Date: March 7, 2003.

9. Carolina Power & Light Company and Florida Power Corporation

[Docket No. ER03-540-000]

Take notice that on February 14, 2003, Carolina Power & Light Company, doing business as Progress Energy Carolinas and Florida Power Corporation, doing business as Progress Energy Florida (Applicants) tendered for filing with the Federal Energy Regulatory Commission (Commission) modifications to their Open Access Transmission Tariffs (OATT). The modifications consist of changes to the creditworthiness provisions so that the OATTs reflect the current climate of credit risk in the industry.

Progress Energy Carolinas and Progress Energy Florida respectfully request that the OATT modifications become effective on March 1, 2003 in order to minimize the potential exposure of the companies and their native load customers to unreimbursed expenses.

Applicants state that copies of the filing were served upon the public utility's jurisdictional customers, North Carolina Utilities Commission and South Carolina Public Service Commission.

Comment Date: March 7, 2003.

10. Wayne-White Counties Electric Cooperative

[Docket No. ER03-541-000]

Take notice that on February 14, 2003, Wayne-White Counties Electric Cooperative (Wayne-White or Cooperative) tendered for filing two executed Service Agreements for Firm Point-to-Point Transmission Service with Illinois Power Company. Under the Service Agreements, Wayne-White states that they will provide firm point-to-point transmission service to Illinois Power Company under the Cooperative's Open Access Transmission Tariff. Wayne-White requests an effective date of February 1, 2003, the date service was first provided, for the Fourth Revised Service Agreement between Wayne-White and Illinois Power Company. Wayne-White requests an effective date of April 1, 2003, for the Fifth Revised Service Agreement between Wayne-White and Illinois Power Company.

Wayne-White states that a copy of the filing was served upon Illinois Power Company.

Comment Date: March 7, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-5092 Filed 3-3-03; 8:45 am]

BILLING CODE 6717-01-P